DEPARTMENT OF COMMERCE

National Oceanic and Atmospheric Administration

[I.D. 050701A]

Small Takes of Marine Mammals Incidental to Specified Activities; Shallow-Water Hazard Activities in the Beaufort Sea

AGENCY: National Marine Fisheries Service (NMFS), National Oceanic and Atmospheric Administration (NOAA), Commerce.

ACTION: Notice of receipt of application and proposed authorization for a small take exemption; request for comments.

SUMMARY: NMFS has received a request from BP Exploration (Alaska), Inc; ExxonMobil Production Co, a division of Exxon Mobil Corporation; and Phillips Alaska, Inc. (BP/EM/PAI), working as members of a study team referred to in their application as the North American Natural Gas Pipeline Group (NANGPG), for an authorization to take small numbers of marine mammals by harassment incidental to conducting shallow hazard surveys in the central and eastern Alaskan Beaufort Sea. Under the Marine Mammal Protection Act (MMPA), NMFS is requesting comments on its proposal to authorize BP/EM/PAI to incidentally take, by harassment, small numbers of bowhead whales and other marine mammals in the U.S. Beaufort Sea during the open water period of 2001.

DATES: Comments and information must be received no later than June 29, 2001.

ADDRESSES: Comments on the application should be addressed to Donna Wieting, Chief, Marine Mammal Conservation Division, Office of Protected Resources, NMFS, 1315 East-West Highway, Silver Spring, MD 20910-3225. A copy of the application, and a list of references used in this document may be obtained by writing to this address or by telephoning one of the contacts listed here.

FOR FURTHER INFORMATION CONTACT: Kenneth R. Hollingshead, (301) 713-2055, ext 128; Brad Smith, (907) 271-5006.

SUPPLEMENTARY INFORMATION:

Background

Sections 101(a)(5)(A) and (D) of the MMPA (16 U.S.C. 1361 et seq.) direct the Secretary of Commerce to allow, upon request, the incidental, but not intentional taking of small numbers of marine mammals by U.S. citizens who engage in a specified activity (other than commercial fishing) within a specified geographical region if certain findings are made and either regulations are issued or, if the taking is limited to harassment, notice of a proposed authorization is provided to the public for review.

Permission may be granted if NMFS finds that the taking will have no more than a negligible impact on the species or stock(s) and will not have an unmitigable adverse impact on the availability of the species or stock(s) for subsistence uses and that the permissible methods of taking and requirements pertaining to the monitoring and reporting of such taking are set forth.

On April 10, 1996 (61 FR 15884), NMFS published an interim rule establishing, among other things, procedures for issuing incidental harassment authorizations (IHAs) under section 101(a)(5)(D) of the MMPA for activities in Arctic waters. For additional information on the procedures to be followed for this authorization, please refer to that document.

Summary of Request

On March 20, 2001, NMFS received an application from BP/EM/PAI requesting an authorization for the harassment of small numbers of several species of marine mammals incidental to conducting shallow hazards surveys during the open water season in the Beaufort Sea between Prudhoe Bay, Alaska and the United States/Canadian border. Weather permitting, the survey is expected to take place between approximately July 20 and September 1, 2001. A more detailed description of the work proposed for 2001 is contained in the application (NANGPG, 2001) which is available upon request (see ADDRESSES).

BP/EM/PAI plan to conduct a nearshore shallow hazards survey along a proposed natural gas pipeline route in the central and eastern Alaskan Beaufort Sea during the 2001 open-water season. The primary purpose of the survey is to acquire detailed data on sea bottom and sub-bottom characteristics to support pipeline route selection, pipeline design, safe pipeline operation, and acquisition of pipeline right-of-way permits and a Federal Energy Regulatory Commission Certificate of Convenience and Public Necessity. A secondary purpose of the survey is to locate and document areas of potential archaeological significance along the proposed pipeline route as required by the Minerals Management Service (MMS) and other regulations. Two vessels will conduct the planned geophysical survey activities. In addition, a smaller support vessel will be used for resupply to enable the survey to be completed expeditiously. Water depths within the proposed pipeline route range from 20-60 ft (6.1-18.3 m).

The primary activity planned under this proposed incidental harassment authorization is a high-resolution shallow hazards pipeline route survey along a 500-m (1640-ft) wide strip from Prudhoe Bay to the Alaska/Canada border. This work would likely occur preceding the period when hunters from Nuiqsut and Kaktovik hunt for bowheads (usually between September 1st and October 15th). The shallow hazards surveys will involve the use of acoustic energy sources of substantially lower power than airgun arrays used during marine seismic surveys. The acoustic recording of received signals from one of the shallow hazards sources will be accomplished using a mini-streamer hydrophone array towed by the source vessel.

To increase the probability of completing the survey in a single open-water season, two vessels will be used. One vessel will acquire sub-bottom data using piezoelectric and electromagnetic sub-bottom profiling systems along with side-scan sonar and single-beam bathymetric sonar (sub-bottom vessel). A second vessel will be devoted to seabottom survey activities, and will operate side scan sonar, single-beam bathymetric sonar, and multi-beam bathymetric sonar (multi-beam vessel). Each vessel will complete one round trip along the pipeline route. The sub-bottom vessel will transit the centerline, a parallel line offset 150 m (492 ft) to one side of the centerline, and cross-tie lines. The cross-tie lines will be spaced approximately 16 km (10 mi) and will be approximately 500 m (1640.4 ft) long. The multi-beam vessel will transit the centerline and a parallel line offset 150 m (492 ft) to the other side of the centerline. In the event that hard-bottom habitat with the potential to meet the Alaska Biological Task Force definition of Boulder Patch is encountered, the survey vessels will circle to the north or south of the planned route in an attempt to better define the sea floor anomaly and to locate an alternate route around the hard-bottom area. The precise bathymetric contour to be surveyed will be determined by BP/EM/PAI later, but BP/EM/PAI has determined that the pipeline corridor will be within the zone where water depth is 20 to 60 ft (6.1 to 18.3 m)(see Figure 1 in BP/EM/PAI's application).

The result of the two-vessel survey will be single coverage of the flanking lines and double coverage of the centerline. Both vessels are expected to operate at a towing speed of 3-5 knots and one will follow the other within a distance of approximately 7.4 km (4.6 mi), although operational considerations may necessitate altering this separation as the survey progresses. It is expected that each one-way survey transit time may take 7 to 10 days, or more, to complete. Wave and ice conditions may affect the specific timing of the survey. The entire shallow hazard survey may take 20 to 40 days.

To conduct the shallow hazards survey, either a boomer or minisparker will be used in addition to a mid-frequency sub-bottom profiler and several high-frequency sonars. The sonars will include a side-scan sonar system, a multi-beam bathymetric sonar system and a single-beam bathymetric sonar system. The boomer or minisparker system would provide a frequency range of about 100 to 2500 Hz, with a typical resolution of one meter. Typical pulse repetition frequencies are one pulse every ½ to 2 seconds. Pulse duration is typically 0.1 to 1.0 milliseconds (ms) and the nominal source level is 203 dB (re 1 uPa (rms)) (200 to 1000 Joules on an energy basis) depending on sub-bottom characteristics. A mid-frequency piezoelectric sub-bottom profiler operating at a range from 2 kHz to 15 kHz range will be used to obtain a high-resolution profile of the shallow sea bottom sediments. Typical pulse frequencies are 10 pulses/sec, with pulse duration between 0.1 and 0.40 ms at an energy level of 200 to 800 Joules. A dual-channel side scan sonar system will be used to acquire continuous images of the sea bottom. The source level for a typical side scan sonar system is approximately 228 dB (re 1 uPa (rms)). The nominal operating frequency will be either 200 or 500 kHz, with a pulse rate of up to 7 pulses per second. Pulse duration could range from 0.01 ms to 0.1 ms. Single-beam bathymetric sonar, operated at a nominal frequency of 200 kHz, will serve as both a backup to the multi-beam system and as a supplemental source of bathymetric data.

Description of Habitat and Marine Mammals Affected by the Activity

A detailed description of the Beaufort Sea ecosystem and its associated marine mammals can be found in several documents (Corps of Engineers, 1999; NMFS, 1999; Minerals Management Service (MMS), 1992, 1996) and is not be repeated here.

Marine Mammals

The Beaufort/Chukchi Seas support a diverse assemblage of marine mammals, including bowhead whales (Balaena mysticetus), gray whales (Eschrichtius robustus), beluga (Delphinapterus leucas), ringed seals (Phoca hispida), spotted seals (Phoca largha) and bearded seals (Erignathus barbatus). Descriptions of the biology and distribution of these species and of others can be found in NANGPG (2001), NMFS (1999), Western Geophysical (2000) and several other documents (Corps of Engineers, 1999; Lentfer, 1988; MMS, 1992, 1996; Ferrero et al. (2000)). Information on cetacean and pinniped hearing can be found in NANGPG (2001) and Richardson et al. (1995) and other sources. Please refer to these documents for additional information on marine mammals.

Potential Effects of Underwater Noise on Marine Mammals

The effects of underwater noise on marine mammals are highly variable, and can be categorized as follows (based on Richardson et al., 1995): (1) The noise may be too weak to be heard at the location of the animal (i.e. lower than the prevailing ambient noise level, the hearing threshold of the animal at relevant frequencies, or both); (2) the noise may be audible but not strong enough to elicit any overt behavioral response; (3) the noise may elicit behavioral reactions of variable conspicuousness and variable relevance to the well being of the animal; these can range from subtle effects on respiration or other behaviors (detectable only by statistical analysis) to active avoidance reactions; (4) upon repeated exposure, animals may exhibit diminishing responsiveness (habituation), or disturbance effects may persist (the latter is most likely with sounds that are highly variable in characteristics, unpredictable in occurrence, and associated with situations that the animal perceives as a threat); (5) any human-made noise that is strong enough to be heard has the potential to reduce (mask) the ability of marine mammals to hear natural sounds at similar frequencies, including calls from conspecifics, echolocation sounds of odontocetes, and environmental sounds such as surf noise; and (6) very strong sounds have the potential to cause temporary or permanent reduction in hearing sensitivity.

Disturbance by anthropogenic noise is the principal means of taking by this activity. Vessels may provide a potential secondary source of noise. In addition, the physical presence of vessels could also lead to non-acoustic effects on marine mammals involving visual or other cues. For a discussion on the anticipated effects of ships, boats, and aircraft on marine mammals and their food sources, please refer to the application. Information on these effects is preliminarily adopted by NMFS as the best information available on this subject.

The pulsed sounds produced by shallow hazards operations will be detectable to marine mammals some distance away from the area of the activity, depending on ambient conditions and the sensitivity of the receptor (Balla-Holden et al., 1998; Greene, 1998; Burgess and Lawson, 2000). There are no available data on bowhead or beluga reactions to shallow hazards acoustic sources and limited data are available for seals. However, the planned types of shallow hazards and sub-bottom profiling equipment have lower source levels and higher frequencies than airgun arrays or even a single airgun. It is possible that the shallow hazards sources may disturb some marine mammals occurring in the area, but the radius of disturbance is expected to be less than an airgun array.

Whales that are approached by the survey vessels may react to the vessels. Reactions may include temporary interruption of previous activities and localized displacement (Richardson et al., 1985; Richardson and Malme, 1993). However, the reaction to the survey vessels should be reduced because the vessels will be traveling at relatively slow speed.

Permanent hearing damage is not expected to occur during the project. It is not positively known whether the hearing systems of marine mammals very close to a shallow hazards acoustic source would be at risk of temporary or permanent hearing impairment, but temporary threshold shift is a theoretical possibility for animals within a few meters of the source, depending on the species, the equipment being used, and the marine mammal species involved (Richardson et al., 1995).

Planned monitoring and mitigation measures (described later in this document) however, are designed to detect marine mammals occurring near the shallow hazards sources, and to avoid exposing them to sound pulses that have any possibility of causing hearing impairment. Moreover, as bowhead whales are known to avoid an area many kilometers in radius around ongoing seismic operations (Miller et al., 1998, 1999), bowheads will probably also avoid the planned shallow hazards operation, although not at such long range given the much lower level of the emitted sounds. Thus, at least in the case of baleen whales, the animals themselves are expected to remain far enough from a shallow hazards survey operation to avoid any possibility of hearing damage.

Masking effects on marine mammal calls and other natural sounds are expected to be limited in the case of bowhead and gray whales exposed to shallow hazards pulses. Although pulse repetition rates will be high during shallow-hazards surveys, the source levels of those pulses will be considerably lower than during seismic surveys, and there will be little overlap in frequency with the predominant frequencies in bowhead calls. This will considerably reduce the potential for masking. Bowhead whales are known to continue calling in the presence of seismic survey sounds, and their calls can be heard between seismic pulses (Richardson, 1986; Greene, 1997; Greeneet al., 1999). Bowheads are likely to continue calling in the presence of shallow hazard source pulses as well. In the case of bowhead whales, masking by shallow hazards sources will be limited because of the intermittent nature of shallow hazards survey pulses, their higher frequencies as compared with frequencies of bowhead calls, and their relatively low source levels. Masking effects are more likely to occur in the case of beluga whales, given that sounds important to them are predominantly at higher frequencies, including frequencies produced by some of the shallow hazards sources. However, the offshore distribution of beluga whales and the rapid absorption of high-frequency sound in seawater will limit the exposure of belugas to shallow hazards pulses and thereby limit the likelihood of masking.

Behavioral Reactions of Cetaceans to Disturbance

When the received levels of noise exceed some behavioral reaction threshold, cetaceans will show disturbance reactions. The levels, frequencies, and types of noise that will elicit a response vary between and within species, individuals, locations, and seasons. Behavioral changes may be subtle alterations in surface, respiration, and dive cycles. More conspicuous responses include changes in activity or aerial displays, movement away from the sound source, or complete avoidance of the area. The reaction threshold and degree of response are related to the activity of the animal at the time of the disturbance. Whales engaged in active behaviors, such as feeding, socializing, or mating, are less likely than resting animals to show overt behavioral reactions, unless the disturbance is directly threatening. However, the actual radius of effect of noise on cetaceans is considerably smaller than the radius of detectability (Richardson et al., 1995).

Reactions of cetaceans to a bubble pulser/boomer, minisparker, or sub-bottom profiler have not been reported. The source levels of these devices are lower than the source level of a single airgun whose volume exceeds 10 in3, but the frequency range is broader. Both baleen and toothed whales sometimes move away from medium-frequency sonars and similar sources (Richardson et al., 1995). If these avoidance effects do occur, the avoidance distances are expected to be substantially less (at least for bowhead and gray whales) than avoidance distances around an airgun array as used during seismic surveys. For example, sounds from an airgun array typically are above 160 dB (re 1 uPa (rms)) at distances out to a few kilometers. In contrast, sounds from a mini-sparker, bubble pulser, or sub-bottom profiler, as measured in the Beaufort Sea during 1997 and 2000, diminished below 160 dB within ranges of 155 m (508.5 ft), 22 m (72.2 ft), and less than 77 m (252.6 ft), respectively (Balla-Holden et al., 1998; Burgess and Lawson, 2000). Those studies indicate that, at a range of 2 km (1.2 mi), the received levels would be around 135 dB (re 1 uPa (rms)) for the minisparker and below 120 dB (re 1 uPa (rms)) for the bubble-pulser and sub-bottom profiler. If migrating bowhead whales are as sensitive to these mid-frequency sources as they are to low-frequency pulses from an airgun array, then avoidance might be evident at distances as much as 2 km (1.2 mi), at least at times when the minisparker is in use.

The side-scan, single-beam, and multi-beam sonars to be used in the shallow hazard survey will operate between 100 kHz and 500 kHz. These sounds are at frequencies above the expected hearing range of bowhead and gray whales. The 100 kHz side-scan sonar sounds (but not the 500 kHz sounds) would be within the hearing range of belugas (White et al., 1978; Johnson et al., 1989). Thus with the possible exception of the few belugas that might be exposed to the 100 kHz side-scan, these high-frequency pulses will be inaudible to cetaceans. The probability that belugas will be exposed to the side-scan sonar is low because belugas are infrequent in nearshore waters of the study area. Also, side-scan sonar sounds at 100 kHz will be rapidly absorbed by seawater and will not be detectable at long range. At 100 kHz, there are absorption losses of 36 dB/km (36 dB/0.62 mi) in addition to the usual spreading loss (Richardson et al., 1995).

Behavioral Reactions of Pinnipeds to Disturbance

Reactions of arctic seals to a bubble pulser/boomer or minisparker and/or sub-bottom profiler are not known in any detail. Ringed seals have been noted to react “vigorously” to survey vessels when sources were silent, and no seals were seen at distances closer than 70 m (229.6 ft) when sources were on during an earlier shallow hazards survey in the Beaufort Sea. However, it is believed that the seals were reacting more to the small airgun used in that survey, than to the GeoPulse bubble pulser.

The sounds emitted by the side-scan sonar will be largely or entirely inaudible to pinnipeds, as the frequencies (100 and 500 kHz) are well above the effective hearing range of pinnipeds.

Numbers of Marine Mammals Expected to Be Taken

Incidental takes of marine mammals by harassment could potentially occur for the duration of the proposed activity (potentially July through September, 2001) during times when the shallow-hazard acoustic sources would be in operation. Seals are in the area throughout the period; few whales are likely to be in the Alaskan Beaufort Sea before late August.

Based on an analysis provided in its application, BP/EM/PAI estimates that the following numbers of marine mammals may be subject to Level B harassment, as defined in 50 CFR 216.3:

Species | Population Size | Harassment Takes in 2001: Possible | Harassment Takes in 2001: Probable
Bowhead | 8,200 |  |
160 dB criterion |  | 42 | 3
2 km criterion |  | 1,601 | 285
Gray whale | 26,000 | <10 | 0
Beluga* | 39,258 | 250 | <150
Ringed seal* | 1-1.5 million | 93 | 10
Spotted seal* | >200,000 | <10 | <2
Bearded seal* | >300,000 | 15 | <15
*Some individual seals may be harassed more than once

Effects of Anthropogenic Noise and Other Activities on Subsistence Needs

The disturbance and potential displacement of marine mammals by sounds from shallow hazards activities are the principal concerns related to subsistence use of the area. The harvest of marine mammals (mainly bowhead whales, but also ringed and bearded seals) is central to the culture and subsistence economies of the coastal North Slope communities. In particular, if migrating bowhead whales are displaced farther offshore by elevated noise levels, the harvest of these whales could be more difficult and dangerous for hunters. The harvest could also be affected if bowheads become more skittish when exposed to seismic noise. The hunters are concerned about both displacement and skittish whales.

Nuiqsut and Kaktovik are the communities that are closest to the area of the proposed activity. Hunters from both villages harvest bowhead whales only during the fall whaling season. In recent years, Nuiqsut whalers typically take two to four whales each season, while Kaktovik typically take 3 bowheads, with 4 bowheads taken when an “unused strike” is allocated from another village. Nuiqsut whalers concentrate their efforts on areas north and east of Cross Island, generally in water depths greater than 20 m (65 ft). Cross Island, the principal field camp location for Nuiqsut whalers, is located immediately south of the potential pipeline route. Thus, the possibility and timing of potential shallow hazards activities in the Cross Island area requires BP/EM/PAI to provide NMFS with either a Plan of Cooperation with North Slope Borough residents or measures that have been or will be taken to avoid any unmitigable adverse impact on subsistence needs. BP/EM/PAI’s application has identified those measures that will be taken to minimize any adverse effect on subsistence. In addition, the timing of shallow hazards activities will be addressed in a Conflict Avoidance Agreement (CAA) with the Nuiqsut and Kaktovik whalers and the Alaska Eskimo Whaling Commission (NANGPG, 2001). The CAA is described in the BP/EM/PAI application.

The location of the proposed activity is south of the center of the westward migration route of bowhead whales, but there is some overlap. Localized disturbance to bowheads by shallow hazards sources and the vessels that deploy them could occur if the shallow hazards operations continue into the bowhead migration season. The proposed timing of the shallow hazards survey is not expected to overlap with the bowhead hunt at either Kaktovik or Cross Island. However, if the shallow hazards survey does continue into the bowhead migration season, as discussed previously in this document, the radius of potential disturbance will be much smaller than would be the case during a seismic survey, given the much reduced source levels of the sounds used for shallow hazards surveys. Shallow hazards operations are expected to begin in July and be completed by September, depending upon ice conditions. If possible, BP/EM/PAI expects the work to be completed by the end of August. Few bowheads approach the project area before the end of August, and whaling does not normally begin until after September 1. However, the mitigation measure adopted in previous years to restrict operations to areas west of Cross Island during the bowhead hunting season is not possible for this project because nearly all of this survey is located east of Cross Island.

Many Nuiqsut hunters hunt seals intermittently year round. During recent years, most seal hunting has been during the early summer in open water. In summer, boat crews hunt ringed, spotted, and bearded seals. The most important sealing area for Nuiqsut hunters is off the Colville delta, extending as far west as Fish Creek and as far east as Pingok Island. This area does not overlap with the planned shallow hazards survey area and, therefore, is not expected to influence the seal hunt by Nuiqsut residents.

At Kaktovik, the planned shallow hazards survey during the summer has some potential to influence seal hunting activities, but any effects are expected by BP/EM/PAI to be negligible. During the open water season, both ringed and bearded seals are taken, along with an occasional spotted seal. Given the lower source levels of the shallow hazard sources, their radius of influence on seals is expected to be less than that of an airgun array even after allowing for the potentially greater sensitivity of seals to medium frequency sounds. Therefore, it is unlikely that the shallow hazards survey would have more than a negligible impact on seals or subsistence hunting of seals.

Mitigation

The timing of the shallow hazards survey has been planned by BP/EM/PAI so that most or all of the survey will occur while there are few bowhead whales in the Alaskan Beaufort Sea, and thus would avoid or minimize overlap with bowhead hunting. BP/EM/PAI proposes to complete all three survey segments (centerline, north offset, and south offset) near Cross Island at the beginning of the survey period (July), well in advance of 1 September, 2001.

Safety zones will be established around each of the sources (except the multi-beam source) and monitored by marine mammal observers. Whenever a marine mammal is about to enter the safety zone appropriate for the species, the observer will ensure that each of the sources will be shut-down until the mammal leaves its safety zone. The safety zones proposed for this activity are as follows:

RMS RADII (in m/ft)
SOURCE | TOW DEPTH (m/ft) | WATER DEPTH (m/ft) | 190 dB (Seals) | 180 dB (Whales)
Minisparker | 0.3/1 | -6/20 | 6/20 | 18/59
Boomer | 0.1/.3 | -13/43 | <1/<3.3 | 2/6.6
Sub-bottom profiler | 3/10 | -13/43 | 3/10 | 8/26

Within the first 10 days of the survey’s start, BP/EM/PAI will measure and analyze the sounds from the various sources, and, after consultation with NMFS, adjust the proposed safety radii, provided here, as necessary.

During night-time, floodlights may be employed to illuminate the safety zone, and night vision equipment will be available to facilitate observation. It should be noted that marine mammal monitoring will not be required for the multi-beam source vessel, only for the sub-bottom source vessel, since the sonar equipment that the multi-beam vessel will operate will emit sounds outside the frequency range at which those species of seals and whales expected in the area can hear well. Also, consistent with previous shallow hazards surveys, because of the lower-powered sources employed, no ramp-up procedure is proposed to be used for this activity.

Monitoring

The BP/EM/PAI proposes to sponsor marine mammal and acoustical monitoring of its 2001 shallow hazards program. This monitoring is proposed to be similar to monitoring conducted in association with the 1997 and 2000 shallow hazards operations in the Beaufort Sea. BP/EM/PAI has not proposed an aerial monitoring program because the zones of acoustical influence are likely to be significantly smaller than those found for seismic airgun array operations in the Beaufort Sea.

Vessel Monitoring

BP/EM/PAI proposes to have a marine mammal observer aboard the sub-bottom source vessel to search for and observe marine mammals whenever the shallow hazards operations are in progress, and for at least 30 minutes prior to the planned start of operations. A total of 3 observers will be employed, consisting of two qualified biologists and an Inupiat Observer/Communicator with experience in this type of work. They will work in shifts no longer than 4 hours each to minimize observer fatigue. All marine mammal observations and shutdowns will be recorded in a standardized format, as done in previous shallow hazard surveys.

When mammals are detected within, or about to enter, the safety zone designated to prevent injury to the animals (see Mitigation), the survey crew leader will be notified so that shutdown procedures can be implemented immediately.

Acoustical Monitoring

Acoustical measurements of sounds emitted by the shallow hazards sources will be obtained by vessel-based hydrophones. A vessel-based acoustical measurement program is proposed to be conducted for a few days early in the program. The main objective will be to measure the levels and other characteristics of the horizontally-propagating sound from the bubble-pulser/boomer, minisparker, and sub-bottom profiler. The sources will be measured at various distances and directions from the source. Routine vessel sounds, made by BP/EM/PAI vessels, will also be recorded for any vessels whose sounds have not been recorded previously.

Reporting

BP/EM/PAI will provide an initial report on the 2001 shallow hazards activity to NMFS within 90 days of the completion of the shallow hazards program. This report will provide dates and locations of shallow hazards operations, details of marine mammal sightings, estimates of the amount and nature of all takes by harassment, and any apparent effects on accessibility of marine mammals to subsistence users.

A final draft technical report will be provided by BP/EM/PAI within 20 working days of receipt of the document from the contractor, but no later than April 30, 2002. The final technical report will contain a description of the methods, results, and interpretation of all monitoring tasks and will reflect suggestions and recommendations made during peer review.

Consultation

Under section 7 of the Endangered Species Act (ESA), NMFS is consulting with MMS on the oil and gas exploration and associated activities in the Alaskan Beaufort Sea. This consultation includes a review of seismic and related noise sources used by the oil and gas industry. That consultation will be completed shortly. If the consultation results in a no jeopardy opinion and if an authorization to incidentally harass listed marine mammals is issued under the MMPA for this activity, NMFS will issue an Incidental Take Statement under section 7 of the ESA for the incidental harassment of bowhead whales by the BP/EM/PAI for its proposed activity.

National Environmental Policy Act (NEPA)

In conjunction with the 1996 notice of proposed authorization (61 FR 26501, May 28, 1996) for open water seismic operations in the Beaufort Sea, NMFS released an Environmental Assessment (EA) that addressed the impacts on the human environment from issuance of the authorization and the alternatives to the proposed action. No comments were received on that document and, on July 18, 1996, NMFS concluded that neither implementation of the proposed authorization for the harassment of small numbers of several species of marine mammals incidental to conducting seismic surveys during the open water season in the Alaskan Beaufort Sea nor the alternatives to that action would significantly affect the quality of the human environment. As a result, the preparation of an environmental impact statement on this action is not required by section 102(2) of NEPA or its implementing regulations.

In 1999, NMFS determined that a new EA was warranted based on the proposed construction of the Northstar project, the collection of data from 1996 through 1998 on Beaufort Sea marine mammals and the impacts of seismic activities on these mammals, and the analysis of scientific data indicating that bowheads avoid nearshore seismic operations by up to about 20 km (12.4 mi). Accordingly, a review of the impacts expected from the issuance of an IHA has been assessed in the EA, and NMFS determined in 1999, that there would be no more than a negligible impact on marine mammals from the issuance of the harassment authorization that year and that there will not be any unmitigable impacts to subsistence communities, provided the mitigation measures required under the authorization were implemented. As a result, NMFS determined in 1999 that neither implementation of the authorization for the harassment of small numbers of several species of marine mammals incidental to conducting seismic surveys during the open water season in the U.S. Beaufort Sea nor the alternatives to that action would significantly affect the quality of the human environment. Since this proposed action falls into a category of actions that do not individually or cumulatively have a significant impact on the human environment as determined through the 1999 EA, this action is categorically excluded from further NEPA analysis (NOAA NAO 216-6).

Preliminary Conclusions

NMFS has preliminarily determined that the short-term impact of conducting shallow hazards surveys in the Alaskan Beaufort Sea will result, at worst, in a temporary modification in behavior by certain species of cetaceans and pinnipeds. While behavioral modifications may be made by these species to avoid the resultant noise, this behavioral change is expected to have a negligible impact on the animals.

While the number of potential incidental harassment takes will depend on the distribution and abundance of marine mammals (which vary annually due to variable ice conditions and other factors) in the area of shallow hazard survey operations, due to the distribution and abundance of marine mammals during the projected period of activity and the location of the proposed shallow hazards activity in waters generally too shallow and distant for most marine mammals of concern, the number of potential harassment takings is estimated to be small. In addition, no take by injury and/or death is anticipated, and the potential for temporary or permanent hearing impairment will be avoided through the incorporation of the mitigation measures mentioned in this document. No rookeries, mating grounds, areas of concentrated feeding, or other areas of special significance for marine mammals are known to occur within or near the planned area of operations during the season of operations.

Because bowhead whales are east of the activity area in the Canadian Beaufort Sea until late August/early September, shallow hazard survey activities in the Alaskan Beaufort Sea are not expected to impact subsistence hunting of bowhead whales prior to that date.

Appropriate mitigation measures to avoid an unmitigable adverse impact on the availability of bowhead whales for subsistence needs will be the subject of consultation between BP/EM/PAI and subsistence users.

Also, while shallow hazard surveys in the Alaskan Beaufort Sea has a potential to influence seal hunting activities by residents of Kaktovik, because the zone of influence by shallow hazard survey sources on seals is expected to be small (less than a few hundred meters in diameter), and because the village of Nuiqsut conducts its major sealing during the summer months off the Colville Delta, west of the proposed survey area, NMFS believes that BP/EM/PAI’s shallow hazards survey will not have an unmitigable adverse impact on the availability of ringed, bearded and spotted seals needed for subsistence.

Proposed Authorization

NMFS proposes to issue an IHA to BP/EM/PAI to take certain species of marine mammals incidental to conducting a shallow hazards survey during the 2001 Alaskan Beaufort Sea open water season, provided the previously mentioned mitigation, monitoring, and reporting requirements are incorporated. NMFS has preliminarily determined that the proposed activity would result in the harassment of only small numbers of bowhead whales, beluga whales, ringed seals, bearded seals, and possibly spotted seals and gray whales; would have no more than a negligible impact on these marine mammal stocks; and would not have an unmitigable adverse impact on the availability of marine mammal stocks for subsistence uses.

Information Solicited

NMFS requests interested persons to submit comments, and information, concerning this request (see ADDRESSES).

Dated: May 23, 2001.
Wanda L. Cain,
Acting Deputy Director, Office of Protected Resources, National Marine Fisheries Service.

[FR Doc. 01-13524 Filed 5-29-01; 8:45 am]

BILLING CODE 3510-22-S